DEPARTMENT OF TRANSPORTATION

Office of the Secretary

Privacy Act of 1974: System of Records

AGENCY: Federal Highway Administration, Department of Transportation (DOT).

ACTION: Notice to establish a system of records.

SUMMARY: DOT intends to establish a system of records under the Privacy Act of 1974 entitled the “National Highway Institute Web site (NHIW) and Course Management and Tracking System (CMTS)”. The system will contain information on customers and instructors who use or contribute services to the National Highway Institute. The NHIW does not contain any information about individuals, just course and session data that is stored in CMTS. Additional information on this system is described in the Supplementary Information section of this notice.

DATES: Effective Date: August 3, 2009. If no comments are received, the proposal will become effective on the above date. If comments are received, the comments will be considered and, where adopted, the documents will be republished with changes.

FOR FURTHER INFORMATION CONTACT: Habib Azarsina, Departmental Privacy Officer, Department of Transportation, Office of the Secretary, 1200 New Jersey Avenue, SE., Washington, DC 20003, 202-366-1965 (telephone), 202-366-7870 (fax), habib.azarsina@dot.gov (Internet address).

SUPPLEMENTARY INFORMATION: The Department of Transportation system of records notice subject to the Privacy Act of 1974 (5 U.S.C. 552a), as amended, has been published in the Federal Register and is available from the above mentioned address.

SYSTEM NUMBER:

DOT/FHWA 221.

SYSTEM NAME:

National Highway Institute Web site (NHIW) and Course Management and Tracking System (CMTS).

SECURITY CLASSIFICATION:

Sensitive, Unclassified.

SYSTEM LOCATION:

This system is located in the National Highway Institute (NHI), Federal Highway Administration, 4600 N. Fairfax Drive, Suite 800, Arlington, VA 22203.

CATEGORIES OF INDIVIDUALS COVERED BY THE SYSTEM OF RECORDS:

CMTS contains information on customers and instructors who use or contribute services to the National Highway Institute. The NHIW does not contain any information about individuals, just course and session data that is stored in CMTS. When customers create accounts on NHIW to enroll in training, they are really creating an account in the User Profile and Access Control System (UPACS), and the information is stored in CMTS under the Customer module.

CATEGORIES OF RECORDS IN THE SYSTEM:

CMTS contains records related to the administration of the training. Personally identifiable information in CMTS consists of customer names, work address, e-mail address, and work telephone number and instructor names and e-mail addresses. The NHIW contains training course and session information stored in CMTS that does not pertain to individuals and is available for public viewing.

AUTHORITY FOR MAINTENANCE OF THE SYSTEM:

Safe, Accountable, Flexible, Efficient Transportation Equity Act: A Legacy for Users (SAFETEA-LU), Public Law 109-59.

PURPOSES:

FHWA has been given the responsibility of enhancing the highway movement of people and goods, while also ensuring the safety of the traveling public, promoting the efficiency of the transportation system, and protecting the environment. One vital component involved in reaching those goals is providing training pertaining to highway activities, particularly in making sure that professionals and members of the public have access to the best, most accurate information. Towards this goal, NHI develops and implements applicable training programs. To manage this increasingly complex task and to make the training process more accessible and useful NHI uses NHIW and a back-end database (CMTS) to support this public site. The NHIW, http://www.nhi.fhwa.dot.gov, is available to the general public and displays NHI's training information. Through this site, members of the public can sign up for and take NHI-developed training, link to a separate government web site to pay for that training, schedule and participate in a Web conference, and download resources for developing courses. In addition, the NHIW offers the ability to purchase course materials. CMTS supports the NHIW by maintaining course development information, customer records, invoices, instructor records and contract data. There is a direct link between NHIW and CMTS.

ROUTINE USES OF RECORDS MAINTAINED IN THE SYSTEM, INCLUDING CATEGORIES OF USERS AND THE PURPOSES OF SUCH USES:

The records are used to administer training and for program evaluation purposes. Only federal program staff and contractors directly involved in administering the program have access to the information stored in CMTS.

DISCLOSURE TO CONSUMER REPORTING AGENCIES:

None.

POLICIES AND PRACTICES FOR STORING, RETRIEVING, ACCESSING, RETAINING, AND DISPOSING OF RECORDS IN THE SYSTEM:

STORAGE:

Records are stored in an electronic database and in paper files.

RETRIEVABILITY:

Records are retrieved by participant name, course number, instructor name, contract number, and invoice number.

SAFEGUARDS:

Access to records in the electronic database is limited to program staff and protected via password controls. Physical access to the server and paper files is limited to appropriate personnel through building key cards and room-access keypads. Other security measures include firewalls, routine scans and monitoring, back-up activities, and security background checks.

RETENTION AND DISPOSAL:

The records retention schedules for these systems are pending National Archives and Records Administration (NARA) approval. The proposed retention period for this system is for the information to be maintained indefinitely.

SYSTEM MANAGER AND ADDRESS:

Director of Training, Federal Highway Administration, 4600 N. Fairfax Drive, Suite 800, Arlington, VA 22203.

NOTIFICATION PROCEDURE:

Individuals wishing to know if their records appear in this system may make a request in writing to the System Manager. The request must include the requester's name, mailing address, telephone number and/or e-mail address, a description and the location of the records requested, and verification of identity.

RECORD ACCESS PROCEDURES:

Individuals seeking access to information about them in this system should apply to the System Manager, following the same procedure as indicated under “Notification procedure.”

CONTESTING RECORD PROCEDURES:

Individuals seeking to contest the content of information about them in this system should apply to the System Manager, following the same procedure as indicated under “Notification procedure.”

RECORD SOURCE CATEGORIES:

The customer records are obtained from forms that customers complete at training sessions, that are then entered directly in the system by program personnel or transactions (weekly patches) that occur via NHIW. Instructor records are obtained directly from the instructors. Data is entered directly in the system by program staff or by transactions (weekly patches) that occur via NHIW.

EXEMPTIONS CLAIMED FOR THE SYSTEM:

None.

DATE OF UPDATE:

June 3, 2009.

Dated: June 18, 2009.
Habib Azarsina,
Departmental Privacy Officer, 202-366-1965.

[FR Doc. E9-14837 Filed 6-23-09; 8:45 am]

BILLING CODE 4910-9X-P